Title 3—

The President

Notice of April 1, 2007

Notice of Intention To Enter Into a Free Trade Agreement With Korea

Consistent with section 2105(a)(1)(A) of the Trade Act of 2002, I have notified the Congress of my intention to enter into a free trade agreement with the Republic of Korea.

Consistent with section 2105(a)(1)(A) of that Act, this notice shall be published in the Federal Register.

THE WHITE HOUSE,

April 1, 2007.

[FR Doc. 07-1677

Filed 4-2-07; 11:57 am]

Billing code 3195-01-P